DEPARTMENT OF TRANSPORTATION

Federal Aviation Administration

14 CFR Part 39

[Docket No. 97-CE-27-AD; Amendment 39-13278; AD 2003-17-04]

RIN 2120-AA64

Airworthiness Directives; Mitsubishi Heavy Industries, Ltd. MU-2B Series Airplanes

AGENCY: Federal Aviation Administration, DOT.

ACTION: Final rule.

SUMMARY: This amendment adopts a new airworthiness directive (AD) that applies to certain Mitsubishi Heavy Industries, Ltd. (Mitsubishi) MU-2B series airplanes. This AD requires you to repetitively inspect the cockpit windshield and cabin window surfaces for damage (damage is defined as crazing, scratches, and cracks). If any of the windshield or window surfaces have damage that exceeds certain limits, this AD requires you to replace the windshield or window. If the damage does not exceed certain limits, this AD allows you to blend out the damage following maintenance manual procedures. This AD is the result of continuing airworthiness information (MCAI) issued by the airworthiness authority for Japan. The actions specified by this AD are intended to prevent cockpit windshield or cabin window separation during flight, which could result in engine ingestion of glass, wing skin damage, or propeller damage, and possible loss of control of the airplane.

DATES: This AD becomes effective on October 3, 2003.

The Director of the Federal Register approved the incorporation by reference of certain publications listed in the regulations as of October 3, 2003.

ADDRESSES: You may get the service information referenced in this AD from Mitsubishi Heavy Industries America, Inc., 4951 Airport Parkway, suite 800, Addison, Texas 75001; telephone: (972) 934-5480; facsimile: (972) 934-5488.

You may view this information at the Federal Aviation Administration (FAA), Central Region, Office of the Regional Counsel, Attention: Rules Docket No. 97-CE-27-AD, 901 Locust, Room 506, Kansas City, Missouri 64106; or at the Office of the Federal Register, 800 North Capitol Street, NW., suite 700, Washington, DC.

FOR FURTHER INFORMATION CONTACT: Direct all questions to:

—For the airplanes manufactured in Japan (Type Certificate A2PC): Mr. Carl Fountain, Aerospace Engineer, Los Angeles Aircraft Certification Office, FAA, 3960 Paramount Boulevard, Lakewood, California, 90712; telephone: (562) 627-5222; facsimile: (562) 627-5210; and

—For the airplanes manufactured in the United States (Type Certificate A10SW): Mr. Andy McAnaul, Aerospace Engineer, FAA, Airplane Certification Office, 2601 Meacham Boulevard, Fort Worth, Texas 76193-0150; telephone: (817) 222-5156; facsimile: (817) 222-5960.

SUPPLEMENTARY INFORMATION:

Discussion

What Events Have Caused This AD?

The Japanese Civil Airworthiness Bureau (JCAB), which is the airworthiness authority for Japan, notified the FAA that an unsafe condition may exist on certain Mitsubishi MU-2B series airplanes. The JCAB reports that several Mitsubishi MU-2B series airplanes have had windshield or window separation during flight. Separation is defined as shattering glass. Further analysis shows that the separation is happening as a result of repeated cabin pressurization cycles.

Has FAA Taken Any Action to This Point?

We issued a proposal to amend part 39 of the Federal Aviation Regulations (14 CFR part 39) to include an AD that would apply to certain Mitsubishi MU-2B series airplanes. This proposal was published in the Federal Register as a supplemental notice of proposed rulemaking (NPRM) on March 26, 2003 (68 FR 14558). The supplemental NPRM proposed to require you to:

—Repetitively inspect the cockpit windshield and cabin window surfaces for damage (damage would be defined as crazing, scratches, and cracks);

—Blend out the damage if the damage does not exceed certain limits; and

—Replace the windshield or window if damage exceeds certain limits.

What Is the Potential Impact if FAA Took No Action?

This condition, if not corrected, could result in shattering or separation of the cockpit windshield or cabin windows during flight, which could cause loss of control of the airplane.

Was the Public Invited To Comment?

The FAA encouraged interested persons to participate in the making of this amendment. The following presents the comments received on the proposal and FAA's response to each comment:

Comment Issue No. 1: Update the Contact Information for Mitsubishi Heavy Industries America, Inc. (MHIA)

What Is the Commenter's Concern?

MIHA has moved and the contact information should be changed to reflect the new address and telephone numbers.

What Is FAA's Response to the Concern?

We concur and have changed the final rule based on this comment.

Comment Issue No. 2: Remove the Contact Information for Mitsubishi Heavy Industries, Nagoya, Japan

What Is the Commenter's Concern?

MIHA is licensed by Mitsubishi Heavy Industries, Ltd. to maintain the type design for Model MU-2B series airplanes. Since MIHA manufactures replacement and modification parts for Model MU-2B series airplanes and is responsible for worldwide support the these airplanes, the reference to Mitsubishi Heavy Industries, Nagoya, Japan should be removed.

What Is FAA's Response to the Concern?

We concur and have changed the final rule based on this comment.

Comment Issue No. 3: Clarify Which Service Bulletin Is Applicable to the Affected Airplane Models and Serial Numbers

What Is the Commenter's Concern?

The commenter states that the final rule AD should clearly define which service bulletin is applicable to each airplane model and serial number in order to facilitate the owners/operators in obtaining the correct service bulletin for their airplane.

What Is FAA's Response to the Concern?

We concur with the commenter. In paragraphs (a)(2)(i) and (a)(2)(ii) of the proposed AD, we specifically referenced the affected airplane models and serial numbers that are applicable to each service bulletin. We have added language in paragraph (d) to further clarify this issue.

We have changed the final rule based on this comment.

Comment Issue No. 4: Update the Cost for Parts and Add Configuration Information in the Cost Impact Section

What Is the Commenter's Concern?

Since the issuance of the proposed AD, the price for replacements parts has significantly increased. The cost impact section should be changed to reflect current pricing and should also include the number of windshields and cabin windows each airplane has in its configuration.

What Is FAA's Response to the Concern?

We concur and have changed the final rule based on this comment.

FAA's Determination

What Is FAA's Final Determination on this Issue?

After careful reviewed all available information related to the subject presented above, we have determined that air safety and the public interest require the adoption of the rule as proposed except for minor editorial corrections. We have determined that these minor corrections:

—Provide the intent that was proposed in the supplemental NPRM for correcting the unsafe condition; and

—Do not add any additional burden upon the public than was already proposed in the supplemental NPRM.

How Does the Revision to 14 CFR Part 39 Affect This AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Airplanes Does This AD Impact?

We estimate that this AD affects 315 airplanes in the U.S. registry.

What Is the Cost Impact of This AD on Owners/Operators of the Affected Airplanes?

We estimate the following costs to accomplish the inspection:

Labor cost | Parts cost | Total cost per airplane | Total cost on U.S. operators
8 workhours × $60 = $480 | No parts required | $480 | $480 × 315 = $151,200

We estimate the following costs to accomplish any necessary replacements that will be required based on the results of the inspection. We have no way of determining the number of airplanes that may need such replacement:

Labor cost | Parts cost per part No. (P/N) | Number of parts per short body model | Number of parts per long body model | Total cost per windshield/ window
16 workhours × $60 = $960 | 010A-31450-1 = $6,893 010A-31450-2 = $6,893 010A-31451-1 = $5,024 010A-31451-2 = $5,029 010A-31874-1 = $4,838 010A-31874-2 = $4,838 | 1 1 1 1 1 1 | 1 1 1 1 1 1 | $7,853 7,853 5,984 5,989 5,798 5,798
| 010A-31870 = $3,279 | 2 | 5 | 4,239
| 010A-31870-11 = $3,279 | 2 | 2 | 4,239
| 030A-32402 = $2,308 | 0 | 1 | 3,268

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-17-04 Mitsubishi Heavy Industries, Ltd: Amendment 39-13278; Docket No. 97-CE-27-AD.

(a) What airplanes are affected by this AD? This AD affects the airplane models and serial numbers specified in paragraphs (a)(2)(i) and (a)(2)(ii) of this AD that are equipped with the following part-numbered windshields and cabin windows and that are certificated in any category:

(1) Windshields

Part No. | Type of windshield
010A-31450-1/-2 | Windshield (LH/RH).
010A-31451-1/-2 | Cockpit side window (LH/RH).
010A-31874-1/-2 | Cockpit side window (LH/RH).
010A-31870 | Cabin window.
010A-31870-11 | Cabin window (at door).
030A-32402 | Long body—small cabin window.

Note 1: The heated windshield is excluded from the inspection and replacement requirements of this AD.

(2) Airplanes Affected by This AD and Applicable Service Information

(i) Mitsubishi MU-2 Service Bulletin No. 224C applies to the following airplane models and serial numbers:

Models | Serial Nos.
MU-2B/-10/-15/-20/-25/-26 | 008 through 347 (except 313 and 321).
MU-2B-30/-35/-36 | 501 through 696 (except 652 and 661).

(ii) Mitsubishi MU-2 Service Bulletin No. 087/56-001B applies to the following airplane models and serial numbers:

Models | Serial Nos.
MU-2B-25/-26/-26A/-40 | 313SA, 321SA, and 348SA through 459SA.
MU-2B-35/-36A/-60 | 652SA, 661SA, and 697SA through 1569SA.

(b) Who must comply with this AD? Anyone who wishes to operate any of the airplanes identified in paragraph (a) of this AD must comply with this AD.

(c) What problem does this AD address? The actions specified by this AD are intended to prevent cockpit windshield or cabin window separation during flight, which could result in engine ingestion of glass, wing skin damage, or propeller damage, and possible loss of control of the airplane.

(d) What actions must I accomplish to address this problem? To address this problem, you must accomplish the following:

Actions | Compliance | Procedures
(1) Inspect the cockpit windshields and cabin windows for scratching, crazing, and cracking (referred to as damage) | Within the next 100 hours time-in-service (TIS) after October 3, 2003 (the effective date of this AD) and thereafter at intervals not to exceed 100 hours TIS from the last inspection, repair or replacement | In accordance with Mitsubishi MU-2 Service Bulletin No. 224 (applicable to models and serial numbers specified in paragraph (a)(2)(i) of this AD and as specified in paragraph (f) of this AD) and Mitsubishi MU-2 Service Bulletin 087/56-001 (applicable to models and serial numbers specified in paragraph (a)(2)(ii) of this AD and as specified in paragraph (f) of this AD).
(2) Replace any window or windshield if damaged beyond the limits specified in Mitsubishi MU-2 Service Bulletin No. 224 (applicable to models and serial numbers specified in paragraph (a)(2)(i) of this AD and as specified in paragraph (f) of this AD) and Mitsubishi MU-2 Service Bulletin 087/56-001 (applicable to models and serial numbers specified in paragraph (a)(2)(ii) of this AD and as specified in paragraph (f) of this AD) | Prior to further flight after the inspection in which the damage was found | In accordance with Mitsubishi MU-2 Service Bulletin No. 224 (applicable to models and serial numbers specified in paragraph (a)(2)(i) of this AD and as specified in paragraph (f) of this AD) and Mitsubishi MU-2 Service Bulletin 087/56-001 (applicable to models and serial numbers specified in paragraph (a)(2)(ii) of this AD and as specified in paragraph (f) of this AD).
(3) Repair any damage in the windshield or window that is within the limits specified in Mitsubishi MU-2 Service Bulletin No. 224 (applicable to models and serial numbers specified in paragraph (a)(2)(i) of this AD and as specified in paragraph (f) of this AD) and Mitsubishi MU-2 Service Bulletin 087/56-001 (applicable to models and serial numbers specified in paragraph (a)(2)(ii) of this AD and as specified in paragraph (f) of this AD) | Prior to further flight after the inspection in which the damage was found | In accordance with the applicable Mitsubishi Maintenance Manual.

(e) Can I comply with this AD in any other way? To use an alternative method of compliance or adjust the compliance time, use the procedures in 14 CFR 39.19. Send these requests to the Manager, Standards Office, Small Airplane Directorate. For information on any already approved alternative methods of compliance, direct all questions to:

(1) For the airplanes manufactured in Japan ( Type Certificate A2PC): Mr. Carl Fountain, Aerospace Engineer, Los Angeles Aircraft Certification Office, FAA, 3960 Paramount Boulevard, Lakewood, California 90712; telephone: (562) 627-5222; facsimile: (562) 627-5210; and

(2) For the airplanes manufactured in the United States (Type Certificate A10SW): Mr. Andy McAnaul, Aerospace Engineer, FAA, Airplane Certification Office, 2601 Meacham Boulevard, Fort Worth, Texas 76193-0150; telephone: (817) 222-5156; facsimile: (817) 222-5960.

(f) Are any service bulletins incorporated into this AD by reference?

(1) Actions required by this AD must be done in accordance with the following:

(i) Mitsubishi MU-2 Service Bulletin No. 224 which incorporates the following pages:

Affected pages | Revision level | Date
3, 5, and 6 | Original Issue | June 30, 1995.
2, 4 | B | November 11, 1996.
1 | C | April 20, 1998.

(ii) Mitsubishi MU-2 Service Bulletin 087/56-001 which incorporates the following pages:

Affected pages | Revision level | Date
3, 5, and 6 | Original Issue | June 29, 1995.
2 | A | September 26, 1996.
1, 4 | B | May 4, 1998.

(2) The Director of the Federal Register approved this incorporation by reference under 5 U.S.C. 552(a) and 1 CFR part 51. You may get copies from Mitsubishi Heavy Industries America, Inc., 4951 Airport Parkway, suite 800, Addison, Texas 75001; telephone: (972) 934-5480; facsimile: (972) 934-5488. You may view copies at the FAA, Central Region, Office of the Regional Counsel, 901 Locust, Room 506, Kansas City, Missouri, or at the Office of the Federal Register, 800 North Capitol Street, NW., suite 700, Washington, DC.

Note 2: The subject of this AD is addressed in Japanese AD No. TCD-4311-95, dated November 15, 1995.

(i) When does this amendment become effective? This amendment becomes effective on October 3, 2003.

Issued in Kansas City, Missouri, on August 12, 2003.
Diane K. Malone,
Acting Manager, Small Airplane Directorate, Aircraft Certification Service.

[FR Doc. 03-20985 Filed 8-19-03; 8:45 am]

BILLING CODE 4910-13-P